DEPARTMENT OF TRANSPORTATION

Research and Innovative Technology Administration

[Docket: RITA 2007-27185]

Agency Information Collection; Activity Under OMB Review; Report of Traffic and Capacity Statistics—The T-100 System

AGENCY: Research & Innovative Technology Administration (RITA), Bureau of Transportation Statistics (BTS), DOT.

ACTION: Notice.

SUMMARY: In compliance with the Paperwork Reduction Act of 1995 (44 U.S.C. 3501 et seq.), this notice announces that the Information Collection Request (ICR) abstracted below has been forwarded to the Office of Management and Budget (OMB) for extension of currently approved collections. The ICR describes the nature of the information collection and its expected burden. The Federal Register Notice with a 60-day comment period soliciting comments on the following collection of information was published on June 5, 2008 (73 FR 32078). The Commerce Department's Bureau of Economic Analysis filed a letter strongly supporting the continuation of the T-100 System.

DATES: Written comments should be submitted by October 2, 2008.

FOR FURTHER INFORMATION CONTACT: Bernie Stankus, Office of Airline Information, RTS-42, RITA, BTS, 1200 New Jersey Avenue, SE., Washington, DC 20590-0001, Telephone Number (202) 366-4387, Fax Number (202) 366-3383 or e-mail bernard.stankus@dot.gov.

SUPPLEMENTARY INFORMATION:

Bureau of Transportation Statistics (BTS)

Title: Report of Traffic and Capacity Statistics—The T-100 System.

Type of Request: Extension of a currently approved collection.

OMB Control Number: 2138-0040.

Forms: Schedule T-100 and T-100(f).

Affected Public: Certificated, commuter and foreign air carriers.

Abstract: T-100 reports are used to measure the air transportation activity to, from and within the United States.

Estimated Annual Burden Hours: 18,000.

The Confidential Information Protection and Statistical Efficiency Act of 2002 (44 USC 3501), requires a statistical agency to clearly identify information it collects for non-statistical purposes. BTS hereby notifies the respondents and the public that BTS uses the information it collects under this OMB approval for non-statistical purposes including, but not limited to, publication of both respondent's identity and its data, submission of the information to agencies outside BTS for review, analysis and possible use in regulatory and other administrative matters.

ADDRESSES: Send comments to the Office of Information and Regulatory Affairs, Office of Management and Budget, 725 17th Street, NW., Washington, DC 20503, Attention: BTS Desk Officer.

Comments are invited on: Whether the proposed collection of information is necessary for the proper performance of the functions of the Department concerning consumer protection. Comments should address whether the information will have practical utility; the accuracy of the Department's estimate of the burden of the proposed information collection; ways to enhance the quality, utility and clarity of the information to be collected; and ways to minimize the burden of the collection of information on respondents, including the use of automated collection techniques or other forms of information technology.

M. Clay Moritz, Jr.,
Acting Assistant Director, Airline Information.

[FR Doc. E8-20233 Filed 8-29-08; 8:45 am]

BILLING CODE 4910-FE-P